DEPARTMENT OF LABOR

Employment and Training Administration

Notice of Determinations Regarding Eligibility To Apply for Worker Adjustment Assistance and Alternative Trade Adjustment Assistance; Correction

This notice corrects the Notice of Determinations Regarding Eligibility to Apply for Worker Adjustment Assistance and Alternative Trade Adjustment Assistance which was published in the Federal Register on February 27, 2007 (72 FR 8794-8795).

This revises the reporting period dates on pages 8794-8795 to read February 12 through February 16, 2007 instead of January 12 through January 16, 2007.

Signed in Washington, DC, this 1st day of March 2007.
Ralph DiBattista,
Director, Division of Trade Adjustment Assistance.

[FR Doc. E7-4058 Filed 3-7-07; 8:45 am]

BILLING CODE 4510-FN-P